FEDERAL COMMUNICATIONS COMMISSION

47 CFR Part 73

[MB Docket No. 13-51; RM-11692; DA 14-1362]

Radio Broadcasting Services; Ehrenberg, Arizona

AGENCY: Federal Communications Commission.

ACTION: Proposal rule; dismissal.

SUMMARY: The Audio Division dismisses as moot the Petition for Rule Making filed by S and H Broadcasting, LLC, proposing the substitution for Channel 228C2 for vacant Channel 286C2 at Ehrenberg, Arizona because the channel substitution was made in another proceeding, MB Docket No. 11-207. The Audio Division also grants the “hybrid” application for Station KQCM, North Shore, California, File No. BPH-20120316ABT.

DATES: October 10, 2014.

ADDRESSES: Secretary, Federal Communications Commission, 445 12fth Street SW., Washington, DC 20554.

FOR FURTHER INFORMATION CONTACT: Rolanda F. Smith, Media Bureau, (202) 418-2700.

SUPPLEMENTARY INFORMATION: This is a synopsis of the Report and Order, MB Docket No. 13-51, adopted September 18, 2014, and released September 19, 2014. The full text of this Commission decision is available for inspection and copying during normal business hours in the FCC's Reference Information Center at Portals II, CY-A257, 445 12th Street SW., Washington, DC 20554. This document may also be purchased from the Commission's duplicating contractors, Best Copy and Printing, Inc., 445 12th Street SW., Room CY-B402, Washington, DC 20554, telephone 1-800-378-3160 or via email www.BCPIWEB.com. This document does not contain information collection requirements subject to the Paperwork Reduction Act of 1995, Public Law 104-13. This document is not subject to the Congressional Review Act. (The Commission is not required to submit a copy of this Report and Order to Government Accountability Office, pursuant to the Congressional Review Act, see 5 U.S.C. Section 801(a)(1)(A) because no rule changes were made).

List of Subjects in 47 CFR Part 73

Radio, Radio broadcasting.

Federal Communications Commission.
Nazifa Sawez,
Assistant Chief, Audio Division, Media Bureau.

[FR Doc. 2014-24113 Filed 10-9-14; 8:45 am]

BILLING CODE 6712-01-P